DEPARTMENT OF JUSTICE

Antitrust Division

Notice Pursuant to The National Cooperative Research and Production Act of 1993—3D PDF CONSORTIUM, Inc.

Notice is hereby given that, on October 4, 2021, pursuant to Section 6(a) of the National Cooperative Research and Production Act of 1993, 15 U.S.C. 4301 et seq. (“the Act”), 3D PDF Consortium, Inc. (“3D PDF”) has filed written notifications simultaneously with the Attorney General and the Federal Trade Commission disclosing changes in its membership. The notifications were filed for the purpose of extending the Act's provisions limiting the recovery of antitrust plaintiffs to actual damages under specified circumstances. Specifically, Kubotek3D, Marlborough, MA; Library of Congress, Washington, DC; U.S. National Archives and Records Administration (NARA), New York, NY; Advanced Technology International, Summerville, SC; Elysium Co. Ltd., Shizuoka, JAPAN; PDFTron Systems Inc., Vancouver, CANADA; Purdue University, West Lafayette, IN; Datakit SARL, Lyon, FRANCE; Theorem Solutions Ltd., Staffordshire, UNITED KINGDOM; The Boeing Company, Seattle, WA; ITI, a Wipro company (previously ITI TranscenData Business), Milford, OH; Anark Corporation, Boulder, CO; PROSTEP AG, Darmstadt, GERMANY; and Tech Soft 3D, Bend, OR, have withdrawn as parties to this venture.

No other changes have been made in either the membership or planned activity of the group research project.

On March 27, 2012, 3D PDF filed its original notification pursuant to Section 6(a) of the Act. The Department of Justice published a notice in the Federal Register pursuant to Section 6(b) of the Act on April 20, 2012 (77 FR 23754).

The last notification was filed with the Department on July 7, 2021. A notice was published in the Federal Register pursuant to Section 6(b) of the Act on August 23, 2021 (86 FR 47150).

Suzanne Morris,
Chief, Premerger and Division Statistics, Antitrust Division.

[FR Doc. 2021-23101 Filed 10-21-21; 8:45 am]

BILLING CODE 4410-11-P